NUCLEAR REGULATORY COMMISSION

[Project No. PROJ0785; NRC-2016-0119]

Tennessee Valley Authority; Clinch River Nuclear Site

AGENCY: Nuclear Regulatory Commission.

ACTION: Early site permit application; receipt.

SUMMARY: On May 12, 2016, the Tennessee Valley Authority (TVA) filed with the U.S. Nuclear Regulatory Commission (NRC), an application for an early site permit (ESP) for the Clinch River Nuclear Site located in Oak Ridge, Tennessee.

DATES: The ESP application is available as of May 26, 2016.

ADDRESSES: Please refer to Docket ID NRC-2016-0119, when contacting the NRC about the availability of information regarding this document. You may obtain publicly-available information related to this document using any of the following methods:

• Federal Rulemaking Web site: Go to http://www.regulations.gov and search for Docket ID NRC-2016-0119. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents related to the application online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Allen Fetter, Office of New Reactors, U.S. Nuclear Regulatory Commission, Washington, DC 20555-0001, telephone: 301-415-8556, email: Allen.Fetter@nrc.gov.

SUPPLEMENTARY INFORMATION:

I. Introduction

Pursuant to Section 103 of the Atomic Energy Act, as amended, and part 52 of title 10 of the Code of Federal Regulations (10 CFR), “Licenses, Certifications, and Approvals for Nuclear Power Plants,” the applicant, TVA, filed an application with the NRC for an ESP in Oak Ridge, Tennessee. In accordance with dubpart A of 10 CFR part 52, an applicant may seek an ESP separate from the filing of an application for a construction permit (CP) or combined license (COL) for a nuclear power facility. The ESP process allows resolution of issues relating to siting. At any time during the period of an ESP (up to 20 years), the permit holder may reference the permit in an application for a CP or COL.

II. Further Information

The NRC will publish subsequent Federal Register notices addressing the acceptability of the tendered ESP application for docketing and provisions for public participation in the ESP application review process.

III. Availability of Documents

The following table indicates the ADAMS accession number or Web site where application documents are available to interested persons.

Document title | ADAMS accession No. or Web site
Application Transmittal letter for ESP for Clinch River Nuclear Site | ML16139A752.
Clinch River Nuclear Site Early Site Permit Application, Part 1, Administrative Information | ML16144A033.
Clinch River Nuclear Site Early Site Permit Application, Part 2, Site Safety Analysis Report | ML16144A074.
Clinch River Nuclear Site Early Site Permit Application, Part 3, Environmental Report | ML16144A145.
Clinch River Nuclear Site Early Site Permit Application, Part 5, Emergency Plan | ML16144A150.
Clinch River Nuclear Site Early Site Permit Application, Part 6, Exemptions and Departures | ML16144A151.
Early Site Permit Application—Clinch River Nuclear Site Web site | http://www.nrc.gov/reactors/new-reactors/esp/clinch-river.html.

The NRC will post publically available materials related to this application in ADAMS and on the NRC's public Web site at http://www.nrc.gov/reactors/new-reactors/esp/clinch-river.html.

Dated at Rockville, Maryland, this 17th day of June 2016.
For the Nuclear Regulatory Commission.
Francis M. Akstulewicz,
Director, Division of New Reactor Licensing, Office of New Reactors.

[FR Doc. 2016-14865 Filed 6-22-16; 8:45 am]

BILLING CODE 7590-01-P